NATIONAL SCIENCE FOUNDATION

Invitation To Submit White Papers To Inform the Five-Year Strategic Plan for the Federal Networking and Information Technology Research & Development Program

AGENCY: The National Coordination Office (NCO) for Networking and Information Technology Research and Development (NITRD).

ACTION: Request for Input (RFI).

FOR FURTHER INFORMATION CONTACT: Detrice M. Wallace at (703) 292-4873.

DATES: To be considered, submissions must be received by August 25, 2008.

SUMMARY: This plan will focus on goals and capabilities that can only be achieved through interagency cooperation and coordination, and will complement and support the strategic plans of the individual agencies. It will encompass vision-driven themes in multiple dimensions to show research & development capabilities and challenges by using scenarios that demonstrate societal and economic impact.

SUPPLEMENTARY INFORMATION: 1. Overview: The Subcommittee on Networking and Information Technology Research and Development (NITRD) is soliciting input from government, academia, and industry in the U.S. and abroad to assist in the development of a Five-Year Strategic Plan for the NITRD Program.

The strategic plan will focus primarily on R&D goals that require interagency coordination, including multi-agency investments and joint programs, and respond to the priorities of the Federal government as a whole. This plan will complement and support each participating agency's strategic plan.

This Request for Input is not a funding opportunity or a solicitation for proposals. Anonymized versions of some responses will be made publicly available to promote further discussion.

2. Focus of the Strategic Plan: The NITRD five-year strategic plan will guide the coordinated R&D efforts of the Federal agencies in the NITRD Program (see http://www.nitrd.gov for a description of the program and a listing of participating agencies). The strategic plan will:

• Define a vision for the NITRD Program and identify desired, future networking and information technologies (NIT) capabilities.

• Provide a five-year framework for prioritizing fundamental research to attain major advances in the desired capabilities within ten years.

• Ensure collaboration across agencies, academia, industry, and other domains to solve challenges that cannot be met by any agency acting alone.

• Illustrate potential societal and economic positive impact on national-level and multi-disciplinary challenges (e.g., cybersecurity, healthcare, renewable energy, and environment).

3. Description of Information Sought: The NITRD Subcommittee seeks input from a range of stakeholders with the goal of developing an effective strategic plan for R&D to yield high-payoff scientific and engineering capabilities in NIT. The submissions should seek to answer the following questions:

• What do you imagine as the future in terms of desired NIT capabilities?

• What roles do you imagine for the NITRD Program and for the academic, commercial, international, and other domains in achieving that future?

In addressing these questions, submitters are challenged to present views and input on one or more of the following subjects, in relation to NIT:

• Development and execution of multi-agency and multi-disciplinary programs.

• Determination of strategic goals, key challenges, opportunities, and research priorities.

• Examples that illustrate the impact of realizing the vision, achieving the proposed goals, and meeting the identified challenges.

• Transition of R&D results into practice.

• Role of the U.S. in the international NIT arena.

• Interactions among government, commercial, academic, and international sectors.

4. Background: A unique collaboration of 13 Federal agencies, the NITRD Program's mission is to formulate Federal NIT R&D to meet the following national goals:

• Assure continued U.S. leadership in NIT to meet Federal goals and support U.S. 21st century government, academic, and industrial interests.

• Accelerate deployment of advanced and experimental NIT to enhance national and homeland security; maintain world leadership in science, engineering, and mathematics; improve the quality of life; promote long-term economic growth; increase lifelong learning; and protect the environment.

• Advance U.S. productivity and competitiveness through long-term scientific and engineering research in NIT.

Currently there are two documents available for gathering background information. The first is the August 2007 publication, Leadership Under Challenge: Information Technology R&D in a Competitive World, an assessment of the NITRD Program by the President's Council of Advisors on Science and Technology (PCAST). A central recommendation in this assessment is the development, implementation, and maintenance of a cohesive strategic plan for the NITRD Program. The second document is the NITRD Program's previous internal Strategic Plan. The documents are available at: http://www.nitrd.gov/pubs/index.htm

5. Submission Information: To be considered, submissions must be received by August 25, 2008. Submitters of the white papers should:

• Focus on interagency coordination of major NIT research directions and the proposed priorities of the Federal government as a whole.

• Put all information in the main text; references may be used for background information.

• Transmit the submissions as electronic documents to nitrd-sp@nitrd.gov.

• Limit the size of documents to two pages.

Note that this is an initial opportunity for public input to the strategic planning process; additional opportunities are expected as the plan is developed.

This invitation is not a funding opportunity or a solicitation for proposals. Anonymized versions of some responses will be made publicly available to promote further discussion.

The NITRD public Web site at http://www.nitrd.gov provides background information on the activities of the NITRD Program and its interagency coordinating groups. For general inquiries, please send e-mail to nco@nitrd.gov.

Chris Greer,
Director, NCO, Co-Chair, NITRD Subcommittee.
Jeannette Wing,
Assistant Director, NSF/CISE, Co-Chair, NITRD Subcommittee.
Submitted by the National Science Foundation for the National Coordination Office (NCO) for Networking and Information Technology Research and Development (NITRD) on July 21, 2008.
Suzanne H. Plimpton,
Reports Clearance Officer, National Science Foundation.

[FR Doc. E8-16975 Filed 7-24-08; 8:45 am]

BILLING CODE 7555-01-P